DEPARTMENT OF LABOR

Employment and Training Administration

[TA-W-58,637]

Carolina Mills, Inc., Plant No. 9, Valdese, NC; Notice of Affirmative Determination Regarding Application for Reconsideration

By application of March 28, 2006, the subject company requested administrative reconsideration of the Department of Labor's Notice of Negative Determination Regarding Eligibility to Apply for Worker Adjustment Assistance, applicable to workers of the subject firm. The Department's determination was signed on February 24, 2006, and the Notice of determination was published in the Federal Register on March 22, 2006 (71 FR 14550).

The subject company filed for Trade Adjustment Assistance (TAA) and Alternative Trade Adjustment Assistance (ATAA) as a secondarily affected company, alleging loss of dying and finishing business from customers who are import-impacted.

The negative determination was based on the findings that the subject company did not shift commission dying and finishing of fabric to a foreign country or import fabric that has been dyed and finished, and that the subject company's customers did not increase imports of commission dyed and finished fabric during the relevant period. The Department determined that because apparel is not considered like or directly competitive with fabric, increased imports of apparel cannot be a basis for TAA certification for the subject worker group.

The Department has carefully reviewed the request for reconsideration and has determined that the Department will conduct an investigation to determine whether the subject workers supplied components to a company adversely impacted by imports and whether the workers are eligible to apply for TAA and ATAA.

Conclusion

After careful review of the application, I conclude that the claim is of sufficient weight to justify reconsideration of the Department of Labor's prior decision. The application is, therefore, granted.

Signed at Washington, DC, this 21st day of April 2006.
Elliott S. Kushner,
Certifying Officer, Division of Trade Adjustment Assistance.

[FR Doc. E6-6821 Filed 5-4-06; 8:45 am]

BILLING CODE 4510-30-P